DEPARTMENT OF TRANSPORTATION

Office of the Secretary

Notice of Applications for Certificates of Public Convenience and Necessity and Foreign Air Carrier Permits Filed Under Subpart B (Formerly Subpart Q) During the Week Ending June 13, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0187.

Date Filed: June 11, 2008.

Due Date for Answers, Conforming Applications, or Motion to Modify Scope: July 2, 2008.

Description:Application of Prescott Support Company, Inc. requesting a certificate of public convenience and necessity authorizing it to conduct foreign all-cargo air transportation of property and mail on a charter basis.

Docket Number: DOT-OST-2008-0188.

Date Filed: June 11, 2008.

Due Date for Answers, Conforming Applications, or Motion to Modify Scope: July 2, 2008.

Description:Application of Prescott Support Company, Inc. requesting a certificate of public convenience and necessity authorizing it to engage in interstate all-cargo air transportation of property and mail, on a charter basis.

Renee V. Wright,
Program Manager, Docket Operations, Federal Register Liaison.

[FR Doc. E8-14737 Filed 6-27-08; 8:45 am]

BILLING CODE 4910-9X-P